DEPARTMENT OF DEFENSE

Uniform Formulary Beneficiary Advisory Panel; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Uniform Formulary Beneficiary Advisory Panel will take place.

DATES: Open to the public Thursday, April 5, 2018 from 9:00 a.m. to 12:00 p.m.

ADDRESSES: The address of the open meeting is the Naval Heritage Center Theater, 701 Pennsylvania Avenue NW, Washington, DC 20004.

FOR FURTHER INFORMATION CONTACT: CAPT Edward Norton, U.S. Navy, 703-681-2890 (Voice), None (Facsimile), dha.ncr.health-it.mbx.baprequests@mail.mil (Email). Mailing address is 7700 Arlington Boulevard, Suite 5101, Falls Church, VA 22042-5101. Website: http://www.health.mil/About-MHS/Other-MHS-Organizations/Beneficiary-Advisory-Panel. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

The Panel will review and comment on recommendations made to the Director of the Defense Health Agency, by the Pharmacy and Therapeutics Committee, regarding the Uniform Formulary.

Purpose of the Meeting: The Department of Defense is publishing this notice to announce a Federal Advisory Committee meeting of the Uniform Formulary Beneficiary Advisory Panel (hereafter referred to as the Panel).

Agenda: Meeting Agenda: 1. Sign-In. 2. Welcome and Opening Remarks. 3. Scheduled Therapeutic Class Reviews (Comments will follow each agenda item). a. Diabetes Non-Insulin: Glucagon-Like Peptide 1 Receptor Agonists Subclass. b. Osteoporosis Drugs: Parathyroid Hormone (PTH) Analog Subclass. c. Anti-Inflammatory Immunomodulatory Ophthalmic Agents—Ophthalmic Immunomodulatory Agents Subclass. d. Corticosteroids-Immune Modulators—Adrenocorticotropic Hormones Subclass. 4. Newly Approved Drugs Review. 5. Pertinent Utilization Management Issues. 6. Panel Discussions and Vote.

Meeting Accessibility: Pursuant to 5 U.S.C. 552b, as amended, and 41 Code of Federal Regulations (CFR) 102-3.140 through 102-3.165, and the availability of space, this meeting is open to the public. Seating is limited and will be provided only to the first 220 people signing-in. All persons must sign-in legibly.

Written Statements: Pursuant to 41 CFR 102-3.140, the public or interested organizations may submit written statements to the membership of the Panel about its mission and/or the agenda to be addressed in this public meeting. Written statements should be submitted to the Panel's Designated Federal Officer (DFO). The DFO's contact information can be obtained previously in this announcement. Written comments or statements must be received by the committee DFO at least five (5) business days prior to the meeting so that they may be made available to the Panel for its consideration prior to the meeting. The DFO will review all submitted written statements and provide copies to all the committee members.

Dated: February 23, 2018.
Aaron Siegel,
Alternate OSD Federal Register Liaison Officer, Department of Defense.

[FR Doc. 2018-04066 Filed 2-27-18; 8:45 am]

BILLING CODE 5001-06-P